NUCLEAR REGULATORY COMMISSION

[Docket No. 40-8027]

Decommissioning of Sequoyah Fuels Corporation Uranium Conversion Facility in Gore, Oklahoma: Notice of Intent To Conduct a Public Outreach Meeting for Sequoyah Fuels Uranium Conversion Facility

AGENCY: Nuclear Regulatory Commission.

ACTION: Notice of Intent To Conduct a Public Outreach Meeting.

SUMMARY: The NRC will conduct a meeting to discuss the status of the environmental review of decommissioning activities at the SFC facility near Gore, Oklahoma, and to obtain public comments on the environmental impacts that need to be addressed. Ample time will be provided for public comment at the meeting, although comments and questions will generally be limited to the remediation of the SFC facility. This meeting is part of the continuing process to keep affected stakeholders and the public informed of plans, schedules and important issues related to the remediation of the SFC facility.

DATES: The NRC will meet with the public on Tuesday, October 17, 2000, from 7:00 to 10:00 p.m.

ADDRESSES: Gore Junior High School cafeteria, 1200 Highway 10N, Gore, Oklahoma.

SUPPLEMENTARY INFORMATION: The NRC is preparing an Environmental Impact Statement (EIS) for the decommissioning of the Sequoyah Fuels Corporation's (SFC) uranium conversion facility located in Gore, Oklahoma. From 1970 until 1993, SFC operated a uranium conversion facility at a site located in Gore, Oklahoma, under the authority of an NRC license issued pursuant to 10 CFR part 40. The main process was the conversion of uranium oxide (yellowcake) to uranium hexafluoride. A second process, begun in 1987, consisted of the conversion of depleted uranium hexafluoride to uranium tetrafluoride.

SFC supplied formal notice of its intent to seek license termination in accordance with 10 CFR 40.42(e) in a letter dated February 16, 1993. Based on available information, at least some of the identified waste and contamination at the site is known to exceed NRC's existing radiological criteria for decommissioning. Therefore, SFC is required to remediate the SFC facility to meet the NRC's radiological criteria for license termination, as described 10 CFR Part 20.

In 1998 Sequoyah Fuels submitted to NRC a site characterization report, which is a technical analysis and description of the site's radiological contamination. A study of remediation alternatives was submitted, also in 1998, followed by a decommissioning plan in 1999. The alternatives study is the principal basis for the environmental review. The remediation alternative proposed by Sequoyah Fuels is an on-site disposal cell.

The NRC is conducting an environmental review of the decommissioning and will develop an EIS to determine whether the alternative proposed by SFC for remediation of the facility is acceptable. The EIS will evaluate the potential impacts of the licensee's proposal, including the effects on water resources, air quality, ecological resources, socioeconomic and community resources, human health, noise and environmental justice. The EIS will consider the licensee's proposed approach for onsite disposal, along with alternatives such as disposing of the contaminated material off-site in a licensed disposal facility. NRC will consider the EIS in reaching a decision on the acceptability of the licensee's proposed approach.

For the preparation of an EIS for the decommissioning of the SFC facility, a public scoping meeting was held on October 15, 1995, in Gore, Oklahoma. In February 1997, NRC issued a summary report of the scoping process. Since so much time has elapsed since the 1995 scoping meeting, NRC will hold a meeting to discuss the environmental impacts which will be addressed in the EIS and to give the public another chance to identify any additional environmental impacts that need to be addressed before we complete the draft EIS.

Other agencies and organizations cooperating in the environmental review are the Environmental Protection Agency; the Army Corps of Engineers; the U.S. Geological Survey; the Oklahoma Department of Environmental Quality; and the Cherokee Nation. All these agencies and organizations will be represented at the 7 p.m. meeting.

In addition to the Tuesday evening meeting, two other meetings are planned for that day. In the morning, from 9 a.m. to noon, NRC staff and its consultants will tour the SFC site. In the afternoon, from 2 to 4 p.m., NRC and SFC will hold a technical exchange related to environmental issues at the site. This meeting will be held at the SFC facility warehouse located at Interstate-40 and Highway 10.

The technical exchange will afford the NRC and its consultants an opportunity to discuss environmental issues prior to anticipated NRC requests for additional information from SFC. The meeting is open for public observation, but participation is limited to NRC and SFC personnel. The opportunity for full public participation will occur in the evening during the 7 p.m. meeting.

FOR FURTHER INFORMATION CONTACT: Phyllis Sobel, Office of Nuclear Material Safety and Safeguards, Washington, DC 20555, Telephone: 301-415-6714; fax 301-415-5397; or e-mail PAS@NRC.GOV.

Dated at Rockville, Maryland, this 19th day of September 2000.
For the Nuclear Regulatory Commission.
Thomas Essig,
Chief, Environmental and Performance Assessment Branch, Division of Waste Management, Office of Nuclear Material Safety and Safeguards.

[FR Doc. 00-25236 Filed 9-29-00; 8:45 am]

BILLING CODE 7590-01-P